DEPARTMENT OF COMMERCE

International Trade Administration

[A-351-852, A-560-832, A-580-896, A-535-905, A-583-862]

Polyethylene Terephthalate Resin From Brazil, Indonesia, the Republic of Korea, Pakistan, and Taiwan: Initiation of Less-Than-Fair-Value Investigations

AGENCY: Enforcement and Compliance, International Trade Administration, Department of Commerce.

DATES: Applicable October 16, 2017.

FOR FURTHER INFORMATION CONTACT: Gene Calvert at (202) 482-3586 (Indonesia, Korea, and Pakistan) or Jun Jack Zhao at (202) 482-1396 (Brazil and Taiwan), Office VII, AD/CVD Operations, Enforcement and Compliance, International Trade Administration, Department of Commerce, 1401 Constitution Avenue NW., Washington, DC 20230.

SUPPLEMENTARY INFORMATION:

The Petitions

On September 26, 2017, the Department of Commerce (the Department) received antidumping duty (AD) petitions concerning imports of polyethylene terephthalate (PET) resin from Brazil, Indonesia, Korea, Pakistan, and Taiwan, filed in proper form on behalf of DAK Americas LLC, Indorama Ventures USA, Inc. (Indorama), M&G Polymers USA, LLC, and Nan Ya Plastics Corporation, America (collectively, the petitioners).¹ The petitioners are domestic producers of PET resin.²

¹ See Letter from the petitioners, “Polyester (sic) Terephthalate (“PET”) Resin from Brazil, Indonesia, the Republic of Korea, Pakistan, and Taiwan—Petition for the Imposition of Antidumping Duties,” September 26, 2017 (the Petitions). Indorama is not a petitioner with respect to the Indonesia petition. See Volume I of the Petitions, at 1.

² See Volume I of the Petitions, at 1.

On September 29, 2017, the Department requested supplemental information pertaining to certain areas of the Petitions.³ The petitioners filed responses to these requests on October 3, 2017.⁴

³ See Letter from the Department, “Petition for the Imposition of Antidumping Duties on Imports of Certain Polyethylene Terephthalate Resin from Brazil: Supplemental Questions,” September 29, 2017; see also Letter from the Department, “Petition for the Imposition of Antidumping Duties on Imports of Certain Polyethylene Terephthalate Resin from Indonesia: Supplemental Questions,” September 29, 2017; Letter from the Department, “Petition for the Imposition of Antidumping Duties on Imports of Certain Polyethylene Terephthalate Resin from the Republic of Korea: Supplemental Questions,” September 29, 2017; Letter from the Department, “Petition for the Imposition of Antidumping Duties on Imports of Certain Polyethylene Terephthalate Resin from Pakistan: Supplemental Questions,” September 29, 2017; Letter from the Department, “Petition for the Imposition of Antidumping Duties on Imports of Certain Polyethylene Terephthalate Resin from Taiwan: Supplemental Questions,” September 29, 2017; and Letter from the Department, “Petitions for the Imposition of Antidumping Duties on Imports of Certain Polyethylene Terephthalate Resin from Brazil, Indonesia, the Republic of Korea, Pakistan, and Taiwan,” September 29, 2017.

⁴ See Letter from the petitioners, “Polyethylene Terephthalate (“PET”) Resin from Brazil, Indonesia, the Republic of Korea, Pakistan, and Taiwan—Petitioners' Amendment to Volume I Relating to General Issues,” October 3, 2017 (General Issues Supplement); see also Letter from the petitioners, “Polyethylene Terephthalate (“PET”) Resin from Brazil, Indonesia, the Republic of Korea, Pakistan, and Taiwan—Petitioners' Amendment to Volume II Relating to Brazil Antidumping Duties,” October 3, 2017; Letter from the petitioners, “Polyethylene Terephthalate (“PET”) Resin from Brazil, Indonesia, the Republic of Korea, Pakistan, and Taiwan—Petitioners' Amendment to Volume III Relating to Indonesia Antidumping Duties,” October 3, 2017; Letter from the petitioners, “Polyethylene Terephthalate (“PET”) Resin from Brazil, Indonesia, the Republic of Korea, Pakistan, and Taiwan—Petitioners' Amendment to Volume IV Relating to the Republic of Korea Antidumping Duties,” October 3, 2017; Letter from the petitioners, “Polyethylene Terephthalate (“PET”) Resin from Brazil, Indonesia, the Republic of Korea, Pakistan, and Taiwan—Petitioners' Amendment to Volume V Relating to Pakistan Antidumping Duties,” October 3, 2017; Letter from the petitioners, “Polyethylene Terephthalate (“PET”) Resin from Brazil, Indonesia, the Republic of Korea, Pakistan, and Taiwan—Petitioners' Amendment to Volume VI Relating to Taiwan Antidumping Duties,” October 3, 2017.

In accordance with section 732(b) of the Tariff Act of 1930, as amended (the Act), the petitioners allege that imports of PET resin from Brazil, Indonesia, Korea, Pakistan, and Taiwan are being, or are likely to be, sold in the United States at less than fair value, within the meaning of section 731 of the Act, and that such imports are materially injuring, or threatening material injury to, the domestic industry producing PET resin in the United States. Consistent with section 732(b)(1) of the Act, the Petitions are accompanied by information reasonably available to the petitioners to support their allegations.

The Department finds that the petitioners filed these Petitions on behalf of the domestic industry because the petitioners are interested parties as defined in section 771(9)(C) of the Act. The Department also finds that the petitioners demonstrated sufficient industry support with respect to initiation of the AD investigations that the petitioners are requesting.⁵

⁵ See the “Determination of Industry Support for the Petitions” section below.

Period of Investigations

Because the Petitions were filed on September 26, 2017, the period of investigation (POI) for all investigations is July 1, 2016, through June 30, 2017, pursuant to 19 CFR 351.204(b)(1).

Scope of the Investigations

The product covered by these investigations is PET resin from Brazil, Indonesia, Korea, Pakistan, and Taiwan. For a full description of the scope of these investigations, see the “Scope of the Investigations” in the Appendix to this notice.

Comments on Scope of the Investigations

As discussed in the preamble to the Department's regulations,⁶ we are setting aside a period for interested parties to raise issues regarding product coverage (i.e., scope). The Department will consider all comments received from interested parties and, if necessary, will consult with interested parties regarding scope prior to the issuance of the preliminary determinations. All factual information included in scope comments should be limited to public information.⁷ To facilitate preparation of its questionnaires, the Department requests that interested parties submit all such comments by 5:00 p.m. Eastern Time (ET) on November 6, 2017, which is the first business day 20 calendar days from the signature date of this notice.⁸ Any rebuttal comments, which may include factual information, must be filed by 5:00 p.m. ET on November 16, 2017, which is 10 calendar days from the initial comment deadline.⁹

⁶ See Antidumping Duties; Countervailing Duties, Final Rule, 62 FR 27296, 27323 (May 19, 1997).

⁷ See 19 CFR 351.102(b)(21) (defining “factual information”).

⁸ See 19 CFR 351.303(b).

⁹ See 19 CFR 351.303(b).

The Department requests that any factual information the parties consider relevant to the scope of the investigations be submitted during this time period. However, if a party subsequently finds that additional factual information pertaining to the scope of the investigations may be relevant, the party may contact the Department and request permission to submit the additional information. All such comments must be filed on the record of each concurrent AD investigation.

Filing Requirements

All submissions to the Department must be electronically filed using Enforcement and Compliance's Antidumping Duty and Countervailing Duty Centralized Electronic Service System (ACCESS).¹⁰ An electronically filed document must be received successfully in its entirety by the time and date it is due. Documents exempted from the electronic submission requirements must be filed manually (i.e., in paper form) with Enforcement and Compliance's APO/Dockets Unit, Room 18022, Department of Commerce, 1401 Constitution Avenue NW., Washington, DC 20230, and stamped with the date and time of receipt by the applicable deadlines.

¹⁰ For details of the Department's electronic filing requirements, which went into effect on August 5, 2011, see Antidumping and Countervailing Duty Proceedings: Electronic Filing Procedures; Administrative Protective Order Procedures, 76 FR 39263 (July 6, 2011), and Enforcement and Compliance; Change of Electronic Filing System Name, 79 FR 69046 (November 20, 2014). Additional information on using ACCESS can be found at https://access.trade.gov/help.aspx, and a handbook can be found at https://access.trade.gov/help/Handbook%20on%20Electronic%20Filling%20Procedures.pdf.

Comments on Product Characteristics

The Department will provide interested parties an opportunity to comment on the appropriate physical characteristics of PET resin to be reported in response to the Department's questionnaires. This information will be used to identify the key physical characteristics of the merchandise under consideration in order to accurately report the relevant costs of production, as well as develop appropriate product-comparison criteria.

Interested parties may provide any information or comments that they feel are relevant to the development of an accurate list of physical characteristics. Specifically, parties may provide comments regarding which characteristics are appropriate to use as (1) general product characteristics and (2) product-comparison criteria. We note that it is not always appropriate to use all product characteristics as product-comparison criteria. We base product-comparison criteria on meaningful commercial differences among products. In other words, although there may be some physical product characteristics utilized by manufacturers to describe PET resin, it may be that only a select few product characteristics take commercially meaningful physical characteristics into account. Interested parties may also comment on the order in which the physical characteristics should be used in matching products. Generally, the Department attempts to list the most important physical characteristics first and the least important characteristics last.

For the Department to consider the suggestions of interested parties in developing and issuing the AD questionnaires, all product characteristics comments must be filed by 5:00 p.m. ET on November 6, 2017. Any rebuttal comments must be filed by 5:00 p.m. ET on November 16, 2017. As explained above, all comments and submissions to the Department must be electronically filed, via ACCESS, on the records of the concurrent Brazil, Indonesia, Korea, Pakistan, and Taiwan investigations.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹¹ they do so for different purposes and pursuant to a separate and distinct authority. In addition, the Department's determination is subject to limitations of time and information. Although this may result in different definitions of the like product, such differences do not render the decision of either agency contrary to law.¹²

¹¹ See section 771(10) of the Act.

¹² See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in a petition).

With regard to the domestic like product, the petitioner does not offer a definition of the domestic like product distinct from the scope of the investigations. Based on our analysis of the information submitted on the record, we have determined that PET resin, as defined in the scope, constitutes a single domestic like product, and we have analyzed industry support in terms of that domestic like product.¹³

¹³ For a discussion of the domestic like product analysis as applied to these cases and information regarding industry support, see Antidumping Duty Investigation Initiation Checklist: Polyethylene Terephthalate (PET) Resin from Brazil (Brazil AD Initiation Checklist), at Attachment II, “Analysis of Industry Support for the Antidumping Duty Petitions Covering Polyethylene Terephthalate Resin (PET Resin) from Brazil, Indonesia, the Republic of Korea, Pakistan, and Taiwan” (Attachment II); see also Antidumping Duty Investigation Initiation Checklist: Polyethylene Terephthalate (PET) Resin from Indonesia” (Indonesia AD Initiation Checklist), at Attachment II; see also Antidumping Duty Investigation Initiation Checklist: Polyethylene Terephthalate (PET) Resin from the Republic of Korea (Korea AD Initiation Checklist), at Attachment II; see also Antidumping Duty Investigation Initiation Checklist: Polyethylene Terephthalate (PET) Resin from Pakistan (Pakistan AD Initiation Checklist), at Attachment II; see also Antidumping Duty Investigation Initiation Checklist: Polyethylene Terephthalate (PET) Resin from Taiwan (Taiwan AD Initiation Checklist), at Attachment II. These checklists are dated concurrently with this notice and on file electronically via ACCESS. Access to documents filed via ACCESS is also available in the Central Records Unit, Room B8024 of the main Department of Commerce building.

In determining whether the petitioners have standing under section 732(c)(4)(A) of the Act, we considered the industry support data contained in the Petitions with reference to the domestic like product as defined in the “Scope of the Investigations,” in the Appendix to this notice. The petitioners provided their 2016 production of the domestic like product, and compared this to the estimated total production of the domestic like product for the entire domestic industry.¹⁴ We relied on data the petitioners provided for purposes of measuring industry support.¹⁵

¹⁴ See Volume I of the Petitions, at Exhibit GEN-2; see also General Issues Supplement, at Exhibit GEN-S2.

¹⁵ Id. For further discussion, see Brazil AD Initiation Checklist, Indonesia AD Initiation Checklist, Korea AD Initiation Checklist, Pakistan AD Initiation Checklist, and Taiwan AD Initiation Checklist, at Attachment II.

Our review of the data provided in the Petitions, General Issues Supplement, and other information readily available to the Department indicates that the petitioner has established industry support for the Petitions.¹⁶ First, the Petitions established support from domestic producers (or workers) accounting for more than 50 percent of the total production of the domestic like product and, as such, the Department is not required to take further action in order to evaluate industry support (e.g., polling).¹⁷ Second, the domestic producers (or workers) have met the statutory criteria for industry support under section 732(c)(4)(A)(i) of the Act because the domestic producers (or workers) who support the Petitions account for at least 25 percent of the total production of the domestic like product.¹⁸ Finally, the domestic producers (or workers) have met the statutory criteria for industry support under section 732(c)(4)(A)(ii) of the Act because the domestic producers (or workers) who support the Petitions account for more than 50 percent of the production of the domestic like product produced by that portion of the industry expressing support for, or opposition to, the Petitions.¹⁹ Accordingly, the Department determines that the Petitions were filed on behalf of the domestic industry within the meaning of section 732(b)(1) of the Act.

¹⁶ See Brazil AD Initiation Checklist, Indonesia AD Initiation Checklist, Korea AD Initiation Checklist, Pakistan AD Initiation Checklist, and Taiwan AD Initiation Checklist, at Attachment II.

¹⁷ See section 732(c)(4)(D) of the Act; see also Brazil AD Initiation Checklist, Indonesia AD Initiation Checklist, Korea AD Initiation Checklist, Pakistan AD Initiation Checklist, and Taiwan AD Initiation Checklist, at Attachment II.

¹⁸ See Brazil AD Initiation Checklist, Indonesia AD Initiation Checklist, Korea AD Initiation Checklist, Pakistan AD Initiation Checklist, and Taiwan AD Initiation Checklist, at Attachment II.

¹⁹ Id.

The Department finds that the petitioners filed the Petitions on behalf of the domestic industry because they are interested parties as defined in section 771(9)(C) of the Act, and that the petitioners have demonstrated sufficient industry support with respect to the AD investigations that they are requesting the Department to initiate.²⁰

²⁰ Id.

Allegations and Evidence of Material Injury and Causation

The petitioners allege that the U.S. industry producing the domestic like product is being materially injured, or is threatened with material injury, by reason of the imports of the subject merchandise sold at less than normal value (NV). In addition, the petitioners allege that subject imports exceed the negligibility threshold provided for under section 771(24)(A) of the Act.²¹

²¹ See Volume I of the Petitions, at 16-17 and Exhibit GEN-8.

The petitioners contend that the industry's injured condition is illustrated by reduced market share; underselling and price suppression or depression; lost sales and revenues; declines in production, capacity utilization, and U.S. shipments; and declines in financial performance.²² We have assessed the allegations and supporting evidence regarding material injury, threat of material injury, and causation, and we have determined that these allegations are properly supported by adequate evidence, and meet the statutory requirements for initiation.²³

²² Id., at 13-32 and Exhibits GEN-5 and GEN-7 through GEN-12.

²³ See Brazil AD Initiation Checklist, at Attachment III, Analysis of Allegations and Evidence of Material Injury and Causation for the Antidumping Duty Petitions Covering Polyethylene Terephthalate (PET) Resin from Brazil, Indonesia, the Republic of Korea, Pakistan, and Taiwan (Attachment III); Indonesia AD Initiation Checklist, at Attachment III; Korea AD Initiation Checklist, at Attachment III; Pakistan AD Initiation Checklist, at Attachment III; and Taiwan AD Initiation Checklist, at Attachment III.

Allegations of Sales at Less Than Fair Value

The following is a description of the allegations of sales at less than fair value upon which the Department based its decision to initiate AD investigations of imports of PET resin from Brazil, Indonesia, Korea, Pakistan, and Taiwan. The sources of data for the deductions and adjustments relating to U.S. price and NV are discussed in greater detail in the country-specific initiation checklists.

Export Price

For all countries addressed in the Petitions, the petitioners based the U.S. price on export price (EP), using (1) average unit values (AUVs) of publicly available import data and (2) price quotes for PET resin produced in, and exported from, the relevant countries and offered for sale or actually sold in the United States.²⁴ Where applicable, the petitioners made adjustments to the U.S. price for movement and other expenses, consistent with the terms of sale.²⁵

²⁴ See Brazil AD Initiation Checklist; see also Indonesia AD Initiation Checklist; Korea AD Initiation Checklist; Pakistan AD Initiation Checklist; Taiwan AD Initiation Checklist.

²⁵ Id.

Normal Value

For all countries addressed in the Petitions, the petitioners provided home market price information obtained through market research for PET resin produced, and offered for sale, in each country.²⁶ For all countries, the petitioners provided market researcher declarations to support the price information.²⁷ Where applicable, the petitioners made deductions for movement expenses, consistent with the terms of sale.²⁸

²⁶ See Brazil AD Initiation Checklist; see also Indonesia AD Initiation Checklist; Korea AD Initiation Checklist; Pakistan AD Initiation Checklist; Taiwan AD Initiation Checklist.

²⁷ See Letter from the petitioners, “Certain Polyethylene Terephthalate Resin from Brazil—Petitioners' Foreign Market Research Report,” September 27, 2017; see also Letter from the petitioners, “Certain Polyethylene Terephthalate Resin from Indonesia—Petitioners' Foreign Market Research Report,” September 27, 2017; Letter from the petitioners, “Certain Polyethylene Terephthalate Resin from the Republic of Korea—Petitioners' Foreign Market Research Report,” September 27, 2017; Letter from the petitioners, “Certain Polyethylene Terephthalate Resin from Pakistan—Petitioners' Foreign Market Research Report,” September 27, 2017; Letter from the petitioners, “Certain Polyethylene Terephthalate Resin from Taiwan—Petitioners' Foreign Market Research Report,” September 27, 2017.

²⁸ See Brazil AD Initiation Checklist; see also Indonesia AD Initiation Checklist; Korea AD Initiation Checklist; Pakistan AD Initiation Checklist; Taiwan AD Initiation Checklist.

For all countries included in the Petitions, the petitioners provided information that sales of PET resin in each respective home market were made at prices below the cost of production (COP).²⁹ With respect to Brazil and Indonesia, the petitioners calculated NV based on home market prices as well as on constructed value (CV).³⁰ With respect to Korea, Pakistan, and Taiwan, the petitioners calculated NV based only on CV.³¹ For further discussion of COP and NV based on CV, see the “Normal Value Based on CV” section of this notice.³²

²⁹ Id.

³⁰ See Brazil AD Initiation Checklist; see also Indonesia AD Initiation Checklist.

³¹ See Korea AD Initiation Checklist; see also Pakistan AD Initiation Checklist; and Taiwan AD Initiation Checklist.

³² In accordance with section 505(a) of the Trade Preferences Extension Act of 2015, amending section 773(b)(2) of the Act, in all investigations, the Department will request information necessary to calculate the CV and COP to determine whether there are reasonable grounds to believe or suspect that sales of the foreign like product have been made at prices that represent less than the COP of the product. The Department no longer requires a COP allegation to conduct this analysis.

Normal Value Based on CV

Pursuant to section 773(b)(3) of the Act, COP consists of the cost of manufacturing (COM), selling, general, and administrative (SG&A) expenses, financial expenses, and packing expenses. For Brazil, Indonesia, Korea, Pakistan, and Taiwan, the petitioners calculated the COM based on the input factors of production and usage rates from U.S. producers of PET resin.³³ For Brazil, Indonesia, Korea and Taiwan, the input factors of production were valued using publicly available data on costs specific to Brazil, Indonesia, Korea and Taiwan.³⁴ Specifically, the prices for raw material and packing inputs were based on Brazilian, Indonesian, Korean and Taiwanese publicly available import/export data.³⁵ For Pakistan, because publicly-available information concerning the cost of certain raw materials, nitrogen, and packing inputs in Pakistan was not reasonably available to the petitioners, the petitioners based their raw material and packing input cost calculations on their own experiences.³⁶ For all five countries, labor and energy costs were valued using publicly available sources from those countries.³⁷ The petitioners calculated factory overhead, SG&A, and financial expenses based on the experience of Brazilian, Indonesian, Korean, Pakistani, and Taiwanese producers of comparable merchandise.³⁸

³³ See Brazil AD Initiation Checklist; see also Indonesia AD Initiation Checklist; Korea AD Initiation Checklist; Pakistan AD Initiation Checklist; Taiwan AD Initiation Checklist.

³⁴ Id.

³⁵ Id.

³⁶ Id.

³⁷ Id.

³⁸ Id.

For all five countries, because certain home market prices fell below the COP, pursuant to sections 773(a)(4), 773(b), and 773(e) of the Act, as noted above, the petitioners calculated NVs based on CV.³⁹ Pursuant to section 773(e) of the Act, CV consists of the COM, SG&A expenses, financial expenses, packing expenses, and profit. The petitioners calculated CV using the same average COM, SG&A expenses, financial expenses, and packing expenses that were used to calculate the COP.⁴⁰ The petitioners relied on the financial statements of the same producers that they used for calculating factory overhead, SG&A expenses, and financial expenses to calculate the profit rates.⁴¹

³⁹ Id.

⁴⁰ Id.

⁴¹ Id.

Fair Value Comparisons

Based on the data provided by the petitioners, there is reason to believe that imports of PET resin from Brazil, Indonesia, Korea, Pakistan, and Taiwan are being, or are likely to be, sold in the United States at less than fair value. Based on comparisons of EP to NV, pursuant to sections 772 and 773 of the Act, the estimated dumping margins for PET resin from each of the countries included in the Petitions and covered by this initiation notice are: (1) 18.76 percent to 115.87 percent for Brazil,⁴² (2) 8.49 percent to 53.50 percent for Indonesia,⁴³ (3) 55.74 percent and 101.41 percent for Korea,⁴⁴ (4) 25.03 percent and 43.40 percent for Pakistan,⁴⁵ and (5) 14.67 percent and 45.00 percent for Taiwan.⁴⁶

⁴² See Brazil AD Initiation Checklist.

⁴³ See Indonesia AD Initiation Checklist.

⁴⁴ See Korea AD Initiation Checklist.

⁴⁵ See Pakistan AD Initiation Checklist.

⁴⁶ See Taiwan AD Initiation Checklist.

Initiation of Less-Than-Fair-Value Investigations

Based upon the examination of the Petitions, we find that the Petitions meet the requirements of section 732 of the Act. Therefore, we are initiating AD investigations to determine whether or not imports of PET resin from Brazil, Indonesia, Korea, Pakistan, and Taiwan are being, or are likely to be, sold in the United States at less than fair value. In accordance with section 733(b)(1)(A) of the Act and 19 CFR 351.205(b)(1), unless postponed, we will make our preliminary determinations no later than 140 days after the date of this initiation.

Numerous amendments to the AD and countervailing duty (CVD) laws were made under the Trade Preferences Extension Act of 2015.⁴⁷ The 2015 law does not specify dates of application for those amendments. On August 6, 2015, the Department published an interpretative rule, in which it announced the applicability dates for each amendment to the Act, except for amendments contained in section 771(7) of the Act, which relate to determinations of material injury by the ITC.⁴⁸ The amendments to sections 771(15), 773, 776, and 782 of the Act are applicable to all determinations made on or after August 6, 2015, and, therefore, apply to these AD investigations.⁴⁹

⁴⁷ See Trade Preferences Extension Act of 2015, Public Law 114-27, 129 Stat. 362 (2015).

⁴⁸ See Dates of Application of Amendments to the Antidumping and Countervailing Duty Laws Made by the Trade Preferences Extension Act of 2015, 80 FR 46793 (August 6, 2015).

⁴⁹ Id. at 46794-46795. The 2015 amendments may be found at https://www.congress.gov/bill/114th-congress/house-bill/1295/text/pl.

Respondent Selection

The petitioners named five companies in Brazil, seven companies in Indonesia, 16 companies in Korea, two companies in Pakistan, and eight companies in Taiwan as producers and/or exporters of PET resin.⁵⁰ Following standard practice in AD investigations involving market economy countries, in the event the Department determines that the number of companies for any of the countries identified above is large, the Department intends to review U.S. Customs and Border Protection (CBP) data for U.S. imports of PET resin during the respective POIs under the appropriate Harmonized Tariff Schedule of the United States subheadings, and if the Department determines that it cannot individually examine each company based upon the Department's resources, then it will select respondents based on that CBP data. We intend to release CBP data under Administrative Protective Order (APO) to all parties with access to information protected by APO within five business days of the announcement of the initiation of these investigations. Interested parties must submit applications for disclosure under APO in accordance with 19 CFR 351.305(b). Instructions for filing such applications may be found on the Department's Web site at http://enforcement.trade.gov/apo.

⁵⁰ See Volume I of the Petitions, at ExhibitGEN-4.

Interested parties may submit comments regarding the CBP data and respondent selection by 5:00 p.m. ET on the seventh calendar day after placement of the CBP data on the records of these investigations. Interested parties wishing to submit rebuttal comments should submit those comments five calendar days after the deadline for initial comments.

With respect to Pakistan, although the Department normally relies on import data from CBP to determine whether to select a limited number of producers/exporters for individual examination in AD investigations, the petitioners identified only two companies as producers/exporters of PET resin from Pakistan: Novatex Limited and Pakistan Synthetics Limited. The petitioners relied on information from a subscription database of import shipments, additional research of publicly-available sources, and the petitioners' foreign market research report as support for their claim that there are only two producers/exporters of PET resin in Pakstan.⁵¹ We currently know of no additional producers/exporters of PET resin from Pakistan. Accordingly, the Department intends to examine the producers/exporters identified in the petition for the investigation. Parties wishing to comment on respondent selection must do so within five days of the publication of this notice in the Federal Register.

⁵¹ See Volume I of the Petitions, at 13, and Exhibit GEN-4, See also letter from the petitioners, “Re: Certain Polyethylene Terephthalate Resin from Pakistan—Petitioners' Foreign Market Research Report,” dated September 27, 2017.

Comments must be electronically filed via ACCESS. An electronically filed document must be successfully received, in its entirety, by ACCESS no later than 5:00 p.m. ET on the relevant date noted above. If respondent selection is necessary, we intend to make our decisions regarding respondent selection, based on comments received from interested parties and our analysis of the record information, within 20 days of publication of this notice.

Distribution of Copies of the Petitions

In accordance with section 732(b)(3)(A)(i) of the Act and 19 CFR 351.202(f), copies of the public version of the Petitions have been provided to the governments of Brazil, Indonesia, Korea, Pakistan, and Taiwan via ACCESS. To the extent practicable, we will attempt to provide a copy of the public version of the Petitions to each exporter named in the Petitions, as provided under 19 CFR 351.203(c)(2).

ITC Notification

We will notify the ITC of our initiation, as required by section 732(d) of the Act.

Preliminary Determinations by the ITC

The ITC will preliminarily determine, within 45 days after the date on which the Petitions were filed, whether there is a reasonable indication that imports of PET resin from Brazil, Indonesia, Korea, Pakistan, and/or Taiwan are materially injuring or threatening material injury to a U.S. industry. A negative ITC determination for any country will result in the investigation being terminated with respect to that country. Otherwise, these investigations will proceed according to statutory and regulatory time limits.

Submission of Factual Information

Factual information is defined in 19 CFR 351.102(b)(21) as: (i) Evidence submitted in response to questionnaires, (ii) evidence submitted in support of allegations, (iii) publicly available information to value factors under 19 CFR 351.408(c) or to measure the adequacy of remuneration under 19 CFR 351.511(a)(2), (iv) evidence placed on the record by the Department, and (v) evidence other than factual information described in (i)-(iv). Section 351.301(b) of the Department's regulations requires any party submitting factual information, to specify under which subsection of 19 CFR 351.102(b)(21) the information is being submitted and, if the information is submitted to rebut, clarify, or correct factual information already on the record, to provide an explanation identifying the information already on the record that the factual information seeks to rebut, clarify, or correct.⁵² Time limits for the submission of factual information are addressed in 19 CFR 351.301, which provides specific time limits based on the type of factual information being submitted. Interested parties should review the regulations prior to submitting factual information in these investigations.

⁵² See 19 CFR 351.301(b).

Extensions of Time Limits

Parties may request an extension of time limits before the expiration of a time limit established under 19 CFR 351.301 or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for such submissions and, in such a case, will inform parties in the letter or memorandum setting forth the deadline (i.e., include a time by which extension requests must be filed to be considered timely). An extension request must be made in a separate, stand-alone submission. We will grant untimely filed requests for the extension of time limits only under limited circumstances. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁵³ Parties are hereby reminded that revised certification requirements are in effect for company and government officials, as well as their representatives. Investigations initiated on the basis of petitions filed on or after August 16, 2013, and other segments of any AD or CVD proceedings initiated on or after August 16, 2013, should use the formats for the revised certifications provided at the end of the Final Rule.⁵⁴ The Department will reject factual submissions if the submitting party does not comply with applicable revised certification requirements.

⁵³ See section 782(b) of the Act.

⁵⁴ See Certification of Factual Information to Import Administration during Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

As noted above, Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., filing of letters of appearance, in accordance with 19 CFR 351.103(d)).

This notice is issued and published pursuant to sections 732(c)(2) and 777(i) of the Act, and 19 CFR 351.203(c).

Dated: October 16, 2017.
Gary Taverman,
Deputy Assistant Secretary for Antidumping and Countervailing Duty Operations performing the non-exclusive functions and duties of the Assistant Secretary for Enforcement and Compliance.

Appendix—Scope of the Investigations

The merchandise covered by these investigations is polyethylene terephthalate (PET) resin having an intrinsic viscosity of at least 70, but not more than 88, milliliters per gram (0.70 to 0.88 deciliters per gram). The scope includes blends of virgin PET resin and recycled PET resin containing 50 percent or more virgin PET resin content by weight, provided such blends meet the intrinsic viscosity requirements above. The scope includes all PET resin meeting the above specifications regardless of additives introduced in the manufacturing process.

The merchandise subject to these investigations is properly classified under subheadings 3907.61.0000 and 3907.69.0000 of the Harmonized Tariff Schedule of the United States (HTSUS). Although the HTSUS subheadings are provided for convenience and customs purposes, the written description of the merchandise covered by these investigations is dispositive.

[FR Doc. 2017-22931 Filed 10-20-17; 8:45 am]

BILLING CODE 3510-DS-P